ENVIRONMENTAL PROTECTION AGENCY

[FRL-7107-5]

Trichloroethylene Health Risk Assessment

AGENCY: Environmental Protection Agency.

ACTION: Notice of extension of public comment period.

SUMMARY: The U.S. Environmental Protection Agency (EPA) is extending by 60 days the public comment period on the draft report, “Trichloroethylene Health Risk Assessment: Synthesis and Characterization,” External Review Draft, (EPA/600/P-01/002A). An initial 60-day public comment period had been announced in the Notice of Availability published on September 19 (66 FR 48257-48258). Extensions were requested by the Air Force, the Halogenated Solvents Industry Alliance, ARCADIS G&M, the Chlorine Chemistry Council, and the General Electric Company. EPA has decided to grant an extension of the comment period until January 18, 2002.

EPA's Science Advisory Board (SAB) will convene an external peer-review panel to review the draft assessment. The SAB will publish a subsequent Federal Register notice to announce the time and place of the peer-review meeting, including information on how the public can participate. After the peer-review meeting, NCEA will address the panel's comments and the public's comments and issue a final assessment. At that time, a summary of the final assessment will be included on EPA's Integrated Risk Information System (IRIS).

DATES: Comments should be in writing and must be received (not postmarked) by January 18, 2002.

ADDRESSES: The draft assessment is available on the Internet at http://www.epa.gov/ncea. A limited number of paper copies are available from the National Center for Environmental Assessment's Technical Information Staff, telephone: 202-564-3261; facsimile: 202-565-0050. If you request a paper copy, please provide your name, mailing address, and the report title, Trichloroethylene Health Risk Assessment.

Comments may be mailed to the Technical Information Staff at the mailroom address: Technical Information Staff (8623-D), U.S. Environmental Protection Agency, 1200 Pennsylvania Avenue NW., Washington, DC 20460. Comments should be in writing and must be received by January 18, 2002. Comments may also be delivered to the Technical Information Staff at the office address: 808 17th Street NW., 5th Floor, Washington, DC 20006; telephone: 202-564-3261; facsimile: 202-565-0050. Electronic comments may be e-mailed to: nceadc.comment@epa.gov. While not a requirement, commenters are encouraged to provide both a hard copy of their comments and electronic files of their comments in a common word-processing format.

FOR FURTHER INFORMATION CONTACT: Dr. Jim Cogliano, National Center for Environmental Assessment, telephone: 202-564-3288; facsimile: 202-565-0079; e-mail: cogliano.jim@epa.gov.

Dated: November 16, 2001.
George W. Alapas,
Acting Director, National Center for Environmental Assessment.

[FR Doc. 01-29385 Filed 11-23-01; 8:45 am]

BILLING CODE 6560-50-P